ENVIRONMENTAL PROTECTION AGENCY

[FRL-7866-2]

Good Neighbor Environmental Board Meeting

AGENCY: Environmental Protection Agency (EPA).

ACTION: Notice of meeting.

SUMMARY: The next meeting of the Good Neighbor Environmental Board, a Federal advisory committee that reports to the President and Congress on environmental and infrastructure projects along the U.S. border with Mexico, will take place in Eagle Pass, Texas, on February 16th and 17th, 2005. It is open to the public.

DATES: On February 16th, the meeting will begin at 8:30 a.m. (registration at 8 a.m.) and end at 3 p.m. Interested parties will then proceed to a nearby location to hear from additional speakers until 5:30 p.m. On February 17th, the Board will hold a routine business meeting from 8 a.m. until 2 p.m. (registration at 7:30 a.m.).

ADDRESSES: The meeting site is the Middle Rio Grande Workforce Center, 1200 Ferry St, Eagle Pass Texas. The phone number is (830) 773-1191.

FOR FURTHER INFORMATION CONTACT: Elaine M. Koerner, Designated Federal Officer for the Good Neighbor Environmental Board, U.S. Environmental Protection Agency, 1200 Pennsylvania Ave., NW., Washington, DC 20460. Tel: (202) 233-0069. E-mail: koerner.elaine@epa.gov.

SUPPLEMENTARY INFORMATION: Agenda: On the first day of the meeting, which begins at 8:30 a.m. (registration at 8 a.m.), the Board has invited local officials from Eagle Pass and Piedras Negras to address attendees at the onset, followed by presentations from local experts throughout the day on community success stories and colonias. The first day also will include a public comment session from 11:30 a.m. until 12 noon. At 3 p.m., the Board and other interested parties will depart for a nearby location to hear from additional speakers. The first day of the meeting will conclude at 5:30 p.m. The second day of the meeting, February 17th, will take the form of a routine business meeting plus a strategic planning session. It also will include an update from Board members about their organizations' recent activities and a report-out from a Mexican counterpart advisory group. The second day of the meeting will begin at 8 a.m., with registration at 7:30 a.m. It will end at 2 p.m.

Public Attendance: The public is welcome to attend all portions of the meeting. Members of the public who plan to file written statements and/or make brief (suggested 5-minute limit) oral statements at the public comment session on the first day are encouraged to contact the Designated Federal Officer (DFO) for the Board prior to the meeting.

Meeting Access: Individuals requiring special accommodation at this meeting, including wheelchair access to the conference room, should contact the DFO at least five business days prior to the meeting so that appropriate arrangements can be made.

Background: The Good Neighbor Environmental Board meets three times each calendar year at different locations along the U.S.-Mexico border and in Washington, DC. It was created by the Enterprise for the Americas Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border.

The U.S. Environmental Protection Agency gives notice of this meeting of the Good Neighbor Environmental Board pursuant to the Federal Advisory Committee Act (Pub. L. 92-463).

Dated: January 14, 2005.
Elaine M Koerner,
Designate Federal Officer.

[FR Doc. 05-1866 Filed 1-31-05; 8:45 am]

BILLING CODE 6560-50-P